DEPARTMENT OF TRANSPORTATION

Pipeline and Hazardous Materials Safety Administration

Office of Hazardous Materials Safety; Application for Special Permits

AGENCY: Pipeline and Hazardous Materials Safety Administration (PHMSA), DOT.

ACTION: Notice.

SUMMARY: In accordance with the procedures governing the application for, and the processing of special permits from the Department of Transportations Hazardous Material Regulations (49 CFR Part 107, Subpart B), notice is hereby given that the Office of Hazardous Materials Safety has received the application described herein. Each mode of transportation for which a particular special permit is requested is indicated by a number in the “Nature of Application portion of the table below as follows: 1—Motor vehicle, 2—Rail freight, 3—Cargo vessel, 4—Cargo aircraft only, 5—Passenger-carrying aircraft.

DATES: Comments must be received on or before March 19, 2009.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington DC or at http://dms.dot.gov.

This notice of receipt of applications for special permit is published in accordance with Part 107 of the Federal hazardous materials transportation law(49 U.S.C. 5117(b); 49 CFR 1.53(b)).

Issued in Washington, DC, on February 9, 2009.
Delmer F. Billings,
Director, Office of Hazardous Materials, Special Permits and Approvals.

Application No. | Docket No. | Applicant | Regulation(s) affected | Nature of special permits thereof
NEW SPECIAL PERMITS
14803-N |  | Beijing China Tank Industry Co., Ltd. Beijing | 49 CFR 173.302a and 180.205 | To authorize the manufacture, marking, sale, and use of non-DOT specification fully wrapped carbon-fiber reinforced aluminum lined cylinders. (modes 1, 2, 3, 4, 5).
14808-N |  | Amtrol, Inc. West Warwick, RI | 49 CFR 178.51(b),(f)(1) and (2) and (g) | To allow the manufacture, marking, sale and use of a non-DOT specification cylinder, similar to a DOT 4BA. (modes 1, 2, 3, 4, 5).
14809-N |  | Toyota Motor Sales, U.S.A., Inc. Torrance, CA | 49 CFR 173.159 | To authorize the transportation in commerce of wet acid batteries with certain other hazardous materials without voiding the exception in 49 CFR 173.159(e). (mode 1).
14810-N |  | Olin Corporation, Chlor Alkai Products Division Cleveland, TN | 49 CFR 173.31(b)(2) and 179.15 | To authorize the transportation in commerce of sodium hydroxide solution and/or potassium hydroxide solution in DOT Specification tank cars that do not have pressure relief devices. (mode 2).

[FR Doc. E9-3093 Filed 2-13-09; 8:45 am]

BILLING CODE 4909-60-M